DEPARTMENT OF COMMERCE

International Trade Administration

[A-588-837]

Large Newspaper Printing Presses and Components Thereof, Whether Assembled or Unassembled, From Japan: Extension of Final Results of Changed Circumstances Review

AGENCY: Import Administration, International Trade Administration, Department of Commerce.

EFFECTIVE DATE: January 25, 2006.

FOR FURTHER INFORMATION CONTACT: David Goldberger or Kate Johnson, Import Administration, International Trade Administration, U.S. Department of Commerce, 14th Street and Constitution Avenue, NW., Washington, DC 20230; telephone (202) 482-4136 and (202) 482-4929, respectively.

SUPPLEMENTARY INFORMATION:

Background

On September 13, 2005, the Department published the preliminary results of its changed circumstances review. We self-initiated the review to consider information contained in a recent Federal court proceeding, Goss International Corp. v. Tokyo Kikai Seisakusho, Ltd., 321 F.Supp.2d 1039 (N.D. Iowa 2004) (Goss Int'l), that Tokyo Kikai Seisakusho, Ltd. provided inaccurate and incomplete information to the Department during the 1997-1998 administrative review. See Large Newspaper Printing Presses and Components Thereof, Whether Assembled or Unassembled, from Japan: Preliminary Results of Changed Circumstances Review, 70 FR 54019 (September 13, 2005) and Large Newspaper Printing Presses and Components Thereof, Whether Assembled or Unassembled, from Japan: Notice of Initiation of Changed Circumstances Review, 70 FR 25414 (May 10, 2005). Because the issues involved in this case are novel and complex, we are extending the time for completion of the final results by 30 days, until March 1, 2006, in order to further consider the comments submitted by interested parties. See 19 CFR 351.302(b).

Dated: January 19, 2006.
Stephen J. Claeys,
Deputy Assistant Secretary for Import Administration.

[FR Doc. E6-926 Filed 1-24-06; 8:45 am]

BILLING CODE 3510-DS-S